DEPARTMENT OF COMMERCE

International Trade Administration

Michigan State University, et al.; Notice of Decision on Applications for Duty-Free Entry of Scientific Instruments

This is a decision pursuant to Section 6(c) of the Educational, Scientific, and Cultural Materials Importation Act of 1966 (Pub. L. 89-651, as amended by Pub. .106-36; 80 Stat. 897; 15 CFR part 301). Related records can be viewed between 8:30 a.m. and 5:00 p.m. in Room 3720, U.S. Department of Commerce, 14th and Constitution Avenue NW., Washington, DC.

Docket Number: 12-036. Applicant: Michigan State University, 2555 Engineering Building, Department of Mechanical Engineering, East Lansing, MI 48824-1226. Instrument: Diode Pumped High speed Nd:YAG laser system. Manufacturer: Edgewave GmbH, Germany. Intended Use: See notice at 77 FR 61739, October 11, 2012. Comments: None received. Decision: Approved. We know of no instruments of equivalent scientific value to the foreign instruments described below, for such purposes as this is intended to be used, that was being manufactured in the United States at the time of its order. Reasons: The instrument will be used as a diagnostics equipment to study high temperature combustion occurring in a laboratory combustor with highly turbulent flows, specifically to detect chemical species of combustion in conditions that are similar to actual engine operating conditions. The system will be used to pump a dye laser to generate ultra-violet light which can be used to rack chemical species during combustion, such as hydroxyl (OH) radicals. The hydroxyl which is excited using ultraviolet light (283 nm) will then fluoresce and can be detected using an intensified CCD camera. The key requirements that this system fulfills are the beam profile of M²<2, to ability to perform sub 10 ns pulses with all the different specifications, and the crystals inside are all temperature controlled to phase match regardless of the outside temperature fluctuations.

Dated: November 8, 2012.
Gregory W. Campbell,
Director, Subsidies Enforcement Office, Import Administration.

[FR Doc. 2012-27782 Filed 11-14-12; 8:45 am]

BILLING CODE 3510-DS-P